DEPARTMENT OF HEALTH AND HUMAN SERVICES

Food and Drug Administration

Advisory Committee; Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed below for an additional 2 years beyond charter expiration date. The new charters will be in effect until the dates of expiration listed below. This notice is issued under the Federal Advisory Committee Act of October 6, 1972 (Pub. L. 92-463 (5 U.S.C. app. 2)).

DATES: Authority for these committees will expire on the date indicated below unless the Commissioner formally determines that renewal is in the public interest.

Name of committee | Date of expiration
Antiviral Drugs Advisory Committee. | Feb. 15, 2003.
National Mammography Quality Assurance Advisory Committee, | July 6, 2003.
Nonprescription Drugs Advisory Committee. | Oct. 27, 2003.
Advisory Committee on Special Studies Relating to the Possible Long-Term Health Effects of Phenoxy Herbicides and Contaminants. | Dec. 2, 2003.
Food Advisory Committee | Dec. 18, 2003.
Vaccines and Related Biological Products Advisory. Committee | Dec. 31, 2003.
Advisory Committee for Pharmaceutical Science. | Jan. 22, 2004.
Pharmacy Compounding Advisory Committee. | Feb. 3, 2004.

FOR FURTHER INFORMATION CONTACT: Linda A. Sherman, Advisory Committee Oversight and Management Staff (HF-4), Food and Drug Administration, 5600 Fishers Lane, Rockville, MD 20857, 301-827-1220.

Dated: March 5, 2002.
Linda A. Suydam,
Senior Associate Commissioner for Communications and Constituent Relations.

[FR Doc. 02-5791 Filed 3-11-02; 8:45 am]

BILLING CODE 4160-01-P